DEPARTMENT OF HEALTH AND HUMAN SERVICES

Health Resources and Services Administration

Agency Information Collection Activities: Submission to OMB for Review and Approval; Public Comment Request; Rural Health Care Services Outreach Program Measures

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than December 19, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION: Information Collection Request Title: Rural Health Care Services Outreach Program Measures, OMB No. 0906-0009—Revision.

Abstract: The Rural Health Care Services Outreach Program is authorized by section 330A(e) of the Public Health Service Act (42 U.S.C. 254c(e)) to “promote rural health care services outreach by improving and expanding the delivery of health care services to include new and enhanced services in rural areas.” The goals for the Rural Health Care Services Outreach Program are as follows: (1) expand the delivery of health care services in rural communities; (2) deliver health care services through a strong consortium, in which every consortium member organization is actively involved and engaged in the planning and delivery of services; (3) utilize and/or adapt an evidence-based or innovative, evidence-informed model(s) in the delivery of health care services; and (4) improve population health and demonstrate health outcomes and sustainability. HRSA collects information from grant recipients that participate in this program using an OMB-approved set of performance measures and seeks to extend its approved information collection.

A 60-day notice was published in the Federal Register on June 21, 2024, 89 FR 52069-70. There were no public comments. However, following publication of the 60-day notice, HRSA increased the average burden per response and total burden hours due to personnel changes resulting in training needs of new hires common among rural healthcare workforce in the Outreach Program.

Need and Proposed Use of the Information: For this program, performance measures were drafted to provide data to the program and to enable HRSA to provide aggregate program data required by Congress under the Government Performance and Results Act of 1993. These measures cover the principal topic areas of interest to the Federal Office of Rural Health Policy (FORHP), including: (1) access to care, (2) population demographics, (3) consortium/network, (4) sustainability, (5) project specific domains, and (6) clinical measures. All measures will speak to FORHP's progress toward meeting the goals set. FORHP collects this information to quantify the impact of grant funding on access to health care, quality of services, and improvement of health outcomes. FORHP uses the data for program improvement and grantees use the data for performance tracking. No substantive changes are proposed from the current data collection effort; FORHP proposes updating hyperlinks for the clinical measures and including an option for text entry to capture names of counties for the number of counties served measure.

Likely Respondents: The respondents would be recipients of the Rural Health Care Services Outreach Program grants.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Health Care Services Outreach Performance Measures | 61 | 1 | 61 | 8 | 488
Total | 61 |  | 61 |  | 488

Maria G. Button,
Director, Executive Secretariat.

[FR Doc. 2024-26925 Filed 11-18-24; 8:45 am]

BILLING CODE 4165-15-P